DEPARTMENT OF THE INTERIOR

Minerals Management Service

Agency Information Collection Activities: Proposed Collection, Comment Request

AGENCY: Minerals Management Service (MMS), Interior.

ACTION: Notice of an extension of a currently approved information collection (OMB Control Number 1010-0087).

SUMMARY: To comply with the Paperwork Reduction Act (PRA) of 1995, we are inviting comments on a collection of information that we will submit to the Office of Management and Budget (OMB) for review and approval. The information collection request (ICR) is titled “30 CFR Part 228, Cooperative Activities with States and Indian Tribes.”

DATES: Submit written comments on or before July 7, 2003.

ADDRESSES: Submit written comments to Sharron L. Gebhardt, Regulatory Specialist, Minerals Management Service, Minerals Revenue Management, PO. Box 25165, MS 320B2, Denver, Colorado 80225. If you use an overnight courier service, our courier address is Building 85, Room A-614, Denver Federal Center, Denver, Colorado 80225. You may also email your comments to us at mrm.comments@mms.gov. Include the title of the information collection and the OMB control number in the “Attention” line of your comment. Also include your name and return address. Submit electronic comments as an ASCII file avoiding the use of special characters and any form of encryption. If you do not receive a confirmation we have received your email, contact Ms. Gebhardt at (303) 231-3211.

FOR FURTHER INFORMATION CONTACT: Sharron L. Gebhardt, telephone (303) 231-3211, FAX (303) 231-3385 or email sharron.gebhardt@mms.gov.

SUPPLEMENTARY INFORMATION: Title: 30 CFR Part 228, Cooperative Activities with States and Indian Tribes.

OMB Control Number: 1010-0087.

Bureau Form Number: None.

Abstract: The Secretary of the U.S. Department of the Interior (DOI) is responsible for collecting royalties from lessees who produce minerals from leased Federal and Indian lands. The Secretary is required by various laws to manage mineral resources production on Federal and Indian lands, collect the royalties due, and distribute the funds in accordance with those laws. The Secretary also has an Indian trust responsibility to manage Indian lands and seek advice and information from Indian beneficiaries. MMS performs the royalty management functions and assists the Secretary in carrying out DOI's Indian trust responsibility.

The Secretary of the Interior is authorized by Public Law 97-451, the Federal Oil and Gas Royalty Management Act of 1982 (FOGRMA), 30 U.S.C. 1732, and 30 U.S.C. 1701 et seq. to enter into cooperative agreements using the capabilities of States and tribes to carry out royalty audits and related investigation and enforcement activities. The Federal Oil and Gas Royalty Simplification and Fairness Act of 1996 (RSFA), Public Law 104-185, as corrected by Public Law 104-200, amended FOGRMA and essentially limited Part 228 to Indian tribes. As noted under § 228.3, this part does not apply to Federal lands. Federal lands are audited by States under the provisions of Part 227, Delegation to States. Cooperative agreements benefit both MMS and Indian tribes by helping to ensure proper product valuation, correct and timely production reporting, and correct and timely royalty payment through the application of an aggressive and comprehensive audit program. To be considered for a cooperative agreement, Indian tribes must comply with the regulations of 30 CFR part 228 by submitting a written request to the Director, MMS, and preparing a proposal detailing the work to be done.

Currently, eight Indian tribes have cooperative audit agreements to perform audits and investigations. When an Indian tribe performs any of the delegated functions under the 30 CFR 228 regulations, the Indian tribe also assumes the burden of providing various types of information to MMS. This information, provided to MMS in the course of performing cooperative audit work, is the focus of this information collection. We have changed the title of this ICR from “Cooperative Agreements” to “30 CFR Part 228, Cooperative Activities with State and Indian Tribes” for consistency with the regulatory language we are covering under 30 CFR part 228.

No proprietary information will be submitted to MMS under this collection. No items of a sensitive nature are collected. The requirement to respond is mandatory. Both MMS and Indian tribes are required to safeguard and protect proprietary data obtained during the course of performing audit activities.

Frequency of Response: Quarterly, annually, or when deemed necessary.

Estimated Number and Description of Respondents: Eight Indian tribes currently have cooperative audit agreements. Over the next 3 years, we expect one or two more tribes to apply.

Estimated Annual Reporting and Recordkeeping “Hour” Burden: 1,912 hours.

The following chart shows the breakdown of the estimated burden hours by CFR section and paragraph:

Tribal Respondent Annual Burden Hour Chart
30 CFR Hours Section | Reporting requirement | Burden hours per response | Annual number of responses | Annual burden hours
228.100(a) and (b)(1), (2), (3), and (4); 228.101(c); 228.107(b) | * * * Indian tribe may request the Department to enter into a cooperative agreement by sending a letter from the * * * tribal chairman * * * to the Director of MMS. The request for an agreement shall be in a format prescribed by MMS * * * Agreements * * * shall be valid for * * * 3 years and shall be renewable * * * upon request of the * * * Indian tribe * * * Indian tribe may unilaterally terminate an agreement by giving a 120-day written notice of intent to terminate. Each cooperative agreement shall contained detailed schedules identifying those activities and costs which quality for funding and the procedures, timing, and mechanics for implementing Federal funding | 200 | 1 | 200
228.101(d) | * * * Indian tribe 80 180 will be given 60-days to respond to the notice of deficiencies and to provide a plan for correction of those deficiencies | 80 | 1 | 80
228.103(a) and (b) | The * * * Indian tribe entering into a cooperative agreement * * * must retain all records, reports, working papers, and any backup materials * * * The * * * Indian tribe shall maintain all books and records * * * | 120 | 8 | 960
228.105(a)(1) and (2) | The Department may * * * reimburse the * * * Indian tribe up to 100 percent of the costs of eligible activities. Eligible activities will be agreed upon annually upon the submission and approval of a workplan and funding requirement. A cooperative agreement may be entered into with * * * Indian tribe, upon request, without a requirement for reimbursement of costs by the Department | 60 | 8 | 480
228.105(c) | The * * * Indian tribe shall submit a voucher for reimbursement of eligible costs incurred within 30-days of the end of each calendar quarter. The * * * Indian tribe must provide the Department a summary of costs incurred, for which the * * * Indian tribe is seeking reimbursement, with the voucher | 4 | 48 | 192
Total |  |  | 66 | 1,912

Estimated Annual Reporting and Recordkeeping “Non-hour Cost” Burden: We have not identified any non-hour cost burdens.

Comments: The PRA (44 U.S.C. 3501, et seq.) provides an agency may not conduct or sponsor, and a person is not required to respond to, a collection of information unless it displays a currently valid OMB control number. Before submitting an ICR to OMB, PRA Section 3506(c)(2)(A) requires each agency “* * * to provide notice * * * and otherwise consult with members of the public and affected agencies concerning each proposed collection of information * * * .” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

The PRA also requires agencies to estimate the total annual reporting “non-hour cost” burden to respondents or recordkeepers resulting from the collection of information. We have not identified any non-hour, start up costs. If you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information; monitoring, sampling, testing equipment; and record storage facilities. Generally, your estimates should not include equipment or services purchased: (i) Before October 1, 1995; (ii) to comply with requirements not associated with the information collection; (iii) for reasons other than to provide information or keep records for the Government; or (iv) as part of customary and usual business or private practices.

We will summarize written responses to this notice and address them in our ICR submission for OMB approval, including appropriate adjustments to the estimated burden. We will provide a copy of the ICR to you without charge upon request, and the ICR will also be posted on our Web site at http://www.mrm.mms.gov/Laws_R_D/FRNotices/FRInfColl.htm.

Public Comment Policy: We will post all comments in response to this notice on our Web site at http://www.mrm.mms.gov/Laws_R_D/FRNotices/FRInfColl.htm. We will also make copies of the comments available for public review, including names and addresses of respondents, during regular business hours at our offices in Lakewood, Colorado. Individual respondents may request we withhold their home address from the public record, which we will honor to the extent allowable by law. There also may be circumstances in which we would withhold from the rulemaking record a respondent's identity, as allowable by law. If you request that we withhold your name and/or address, state this prominently at the beginning of your comment. However, we will not consider anonymous comments. We will make all submissions from organizations or businesses, and from individuals identifying themselves as representatives or officials of organizations or businesses, available for public inspection in their entirety.

MMS Information Collection Clearance Officer: Jo Ann Lauterbach (202) 208-7744.

Dated: April 30, 2003.
Lucy Querques Denett,
Associate Director for Minerals Revenue Management.

[FR Doc. 03-11041 Filed 5-2-03; 8:45 am]

BILLING CODE 4310-MR-U